DEPARTMENT OF DEFENSE

Department of the Army

32 CFR Part 656

Installations, Use of Off-Road Vehicles on Army Land

AGENCY: Department of the Army, DOD.

ACTION: Final rule; removal.

SUMMARY: The Department of the Army is resending AR 385-55, Prevention of Motor Vehicle Accidents, and has consolidated its requirements into AR 385-10, Army Safety Program. During consolidation, the section concerning the use of non-tactical off-road vehicles on Army land was removed.

EFFECTIVE DATE: December 8, 2006.

FOR FURTHER INFORMATION CONTACT: Mr. Kenneth W. Proper, (703) 601-2408.

SUPPLEMENTARY INFORMATION: The Office of the Director of Army Safety (DACS-SF), is the proponent for the regulation represented by 32 CFR Part 656. The Office of the Director of Army Safety has consolidated the Army regulation, represented by 32 CFR Part 656 into AR 385-10, Army Safety Program. This regulation was extensively revised during the consolidation process, and the new consolidated regulation does not affect the general public. Similar requirements concerning the use of off-road vehicles on Army land are now provided by 32 CFR 650, Environmental Protection and Enhancement (AR 200-1) and 32 CFR 651, Environmental Analysis Of Army Actions (AR 200-2) which when taken into combination provided greater and wider protection on installation than did 32 CFR Part 656 or AR 385-55.

List of Subjects in 32 CFR Part 656

Environmental protection, Federal buildings and facilities, Traffic regulations.

PART 656—[REMOVED]

Accordingly, for reasons stated in the preamble, under the authority 10 U.S.C. 3012, 32 CFR Part 656, Installations, Use of Off-Road Vehicles on Army Land, is removed in its entirety.

Brenda S. Bowen,
Army Federal Register Liaison Officer.

[FR Doc. 06-9599 Filed 12-8-06; 8:45 am]

BILLING CODE 3710-08-M